DEPARTMENT OF JUSTICE

Antitrust Division

Notice Pursuant to the National Cooperative Research and Production Act of 1993—Open Mobile Alliance

Notice is hereby given that, on January 11, 2024, pursuant to section 6(a) of the National Cooperative Research and Production Act of 1993, 15 U.S.C. 4301 et seq. (“the Act”), Open Mobile Alliance (“OMA”) filed written notifications simultaneously with the Attorney General and the Federal Trade Commission disclosing changes in its membership. The notifications were filed for the purpose of extending the Act's provisions limiting the recovery of antitrust plaintiffs to actual damages under specified circumstances. Specifically, Aetheros, Sausalito, CA; AVSystem sp.zo.o., Kraków, POLAND; Bulk Tainer Telematics Ltd., Stokesley, UNITED KINGDOM; HMD Global Oy, Espoo, FINLAND; Hydro- Québec, Varennes, CANADA; Landis+Gyr Technology, Inc., Alpharetta, GA; Software AG, Darmstadt, GERMANY; Weihai Ploumeter Co., LTD, Weihai, Shandong Province, PEOPLE'S REPUBLIC OF CHINA have been added as parties to this venture.

Also, ARM Ltd., San Jose, CA; Comtech Telecommunications Corp., Annapolis, MD; grandcentrix GmbH, Cologne, GERMANY; KTC Product AB, Askim, SWEDEN; Lulea University of Technology, Lulea, SWEDEN; Qualcomm Inc., San Diego, CA; Softbank Corp., Tokyo, JAPAN; Sporton International Inc., TaoYuan Hsien, TAIWAN; Telit Communications S.p.a., Sgonico, ITALY, have withdrawn as parties to this venture.

No other changes have been made in either the membership or planned activity of the group research project. Membership in this group research project remains open, and OMA intends to file additional written notifications disclosing all changes in membership.

On March 18, 1998, OMA filed its original notification pursuant to section 6(a) of the Act. The Department of Justice published a notice in the Federal Register pursuant to section 6(b) of the Act on December 31, 1998 (63 FR 72333).

The last notification was filed with the Department on April 19, 2022. A notice was published in the Federal Register pursuant to section 6(b) of the Act on May 13, 2022 (87 FR 29386).

Suzanne Morris,
Deputy Director Civil Enforcement Operations, Antitrust Division.

[FR Doc. 2024-02259 Filed 2-5-24; 8:45 am]

BILLING CODE P